DEPARTMENT OF TRANSPORTATION

Pipeline and Hazardous Materials Safety Administration

[Docket No. PHMSA-2022-0043; Notice No. 2022-06]

Hazardous Materials: Request for Information on Electronic Hazard Communication Alternatives; Extension of Comment Period

AGENCY: Pipeline and Hazardous Materials Safety Administration (PHMSA), Department of Transportation (DOT).

ACTION: Request for information; extension of comment period.

SUMMARY: On July 11, 2022, PHMSA announced a request for information seeking input on the potential use of electronic communication as an alternative to current, physical documentation requirements for hazard communication. In this notice, PHMSA is extending the comment period from September 9, 2022, until October 24, 2022.

DATES: Interested persons are invited to submit comments on or before October 24, 2022. Comments received after that date will be considered to the extent practicable.

ADDRESSES: You may submit comments identified by the Docket Number PHMSA-2022-0043 by any of the following methods:

• Federal eRulemaking Portal: https://www.regulations.gov. Follow the instructions for submitting comments.

• Fax: 1-202-493-2251.

• Mail: Docket Management System; U.S. Department of Transportation, West Building, Ground Floor, Room W12-140, Routing Symbol M-30, 1200 New Jersey Avenue SE, Washington, DC 20590.

• Hand Delivery: Docket Management System; Room W12-140 on the ground floor of the West Building, 1200 New Jersey Avenue SE, Washington, DC 20590, between 9 a.m. and 5 p.m., Monday through Friday, except Federal holidays.

Instructions: All submissions must include the agency name and Docket Number (PHMSA-2022-0043) for this notice. To avoid duplication, please use only one of these four methods. All comments received will be posted without change to the Federal Docket Management System (FDMS) and will include any personal information you provide.

Docket: For access to the dockets to read background documents or comments received, go to https://www.regulations.gov or DOT's Docket Operations Office (see ADDRESSES).

Privacy Act: In accordance with 5 U.S.C. 553(c), DOT solicits comments from the public. DOT posts these comments, without edit, including any personal information the commenter provides, to http://www.regulations.gov, as described in the system of records notice (DOT/ALL-14 FDMS), which can be reviewed at https://www.dot.gov/privacy.

Confidential Business Information (CBI): CBI is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Please mark each page of your submission containing CBI as “PROPIN.” PHMSA will treat such marked submissions as confidential under FOIA. Submissions containing CBI should be sent to Eamonn Patrick, Standards and Rulemaking Division, (202) 366-8553, Pipeline and Hazardous Materials Safety Administration, U.S. Department of Transportation, 1200 New Jersey Avenue SE, Washington, DC 20590-0001. PHMSA will place any commentary not specifically designated as CBI into the public docket for this notice.

FOR FURTHER INFORMATION CONTACT: Eamonn Patrick, Standards and Rulemaking Division, (202) 366-8553, Pipeline and Hazardous Materials Safety Administration, U.S. Department of Transportation, 1200 New Jersey Avenue SE, Washington, DC 20590-0001.

SUPPLEMENTARY INFORMATION: PHMSA recently published a notice requesting information ¹ on the subject of electronic hazard communication. The notice informed the public that the agency is considering revisions to the Hazardous Materials Regulations and requested information to support development of performance-based standards for electronic communication alternatives to the existing physical, paper-based hazard communication requirements.² PHMSA received a request to extend the comment period to allow for additional time for interested persons to respond more fully to the questions presented in the notice. In response to that request, PHMSA is granting the request for an extension and is extending the comment period of the notice by forty-five (45) days, until October 24, 2022. This extension provides the public additional time to provide extensive comments on the request for information.

¹ 87 FR 41179 (Jul. 11, 2022).

² See https://www.govinfo.gov/content/pkg/FR-2022-07-11/pdf/2022-14655.pdf.

Signed in Washington, DC, on August 23, 2022, under authority delegated in 49 CFR 1.97.
William S. Schoonover,
Associate Administrator of Hazardous Materials Safety, Pipeline and Hazardous Materials Safety Administration.

[FR Doc. 2022-18514 Filed 8-26-22; 8:45 am]

BILLING CODE 4910-60-P